ENVIRONMENTAL PROTECTION AGENCY

[EPA-HQ-OECA-2014-0079; FRL-9988-08-OEI]

Information Collection Request Submitted to OMB for Review and Approval; Comment Request; NESHAP for Wet-Formed Fiberglass Mat Production (Renewal)

AGENCY: Environmental Protection Agency (EPA).

ACTION: Notice.

SUMMARY: The Environmental Protection Agency (EPA) has submitted an information collection request (ICR), NESHAP for Wet-formed Fiberglass Mat Production (EPA ICR Number 1964.09; OMB Control Number 2060-0496), to the Office of Management and Budget (OMB) for review and approval in accordance with the Paperwork Reduction Act. This is a proposed extension of the ICR, which is currently approved through December 31, 2018. Public comments were previously requested via the Federal Register on June 29, 2017 during a 60-day comment period. This notice allows for an additional 30 days for public comments. A fuller description of the ICR is given below, including its estimated burden and cost to the public. An agency may not conduct or sponsor and a person is not required to respond to a collection of information unless it displays a currently valid OMB control number.

DATES: Additional comments may be submitted on or before January 25, 2019.

ADDRESSES: Submit your comments, referencing Docket ID Number EPA-HQ-OECA-2014-0079, to (1) EPA online using www.regulations.gov (our preferred method), by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: The NESHAP apply to wet-formed fiberglass mat production facilities that emit greater than or equal to 10 tons per year (tpy) of any one hazardous air pollutant (HAP) or greater than or equal to 25 tpy of any combination of HAP. Affected sources include new and existing drying and curing ovens. New facilities include those that commenced construction or reconstruction after the original date of proposal (May 26, 2000). The NESHAP standards require initial notifications, performance tests, and seminannual reports by the owners/operators of the affected facilities. They are also required to maintain records of the occurrence and duration of any startup, shutdown, or malfunction in the operation of an affected facility, or any period during which the monitoring system is inoperative. These notifications, reports, and records are essential in determining compliance, and are required of all sources subject to NESHAP standards.

Form Numbers: None.

Respondents/affected entities: New and existing drying and curing ovens at wet-formed fiberglass mat production facilities.

Respondent's obligation to respond: Mandatory (40 CFR 63 Subpart HHHH).

Estimated number of respondents: 7 (total).

Frequency of response: Initial, semiannual.

Total estimated burden: 1,470 hours (per year). Burden is defined at 5 CFR 1320.3(b).

Total estimated cost: $95,500 (per year), includes $0 annualized capital or operation & maintenance costs.

Changes in the Estimates: The adjustment decrease in burden from the most recently approved ICR is due to a decrease in the number of sources from 14 to 7, based on the Agency's evaluation of the source category as part of the residual risk and technology review (RTR). Additionally, the amendments to the NESHAP for Wet-Formed Fiberglass Mat Production (40 CFR, Part 63, Subpart HHHH) addressed in this ICR (1) adjust references to the Part 63 General Provisions (40 CFR, Part 63, Subpart A) and revise provisions in the NESHAP (40 CFR part 63, Subpart HHHH) to remove the SSM exemption and SSM plan and periodic report requirements; (2) require electronic submittal of performance test results; (3) reduce the frequency of compliance reports from a quarterly basis to a semiannual basis when there are deviations from applicable standards; and (4) reduce the parameter monitoring and recording requirements during use of binder containing no HAP.

Courtney Kerwin,
Director, Regulatory Support Division.

[FR Doc. 2018-27959 Filed 12-26-18; 8:45 am]

BILLING CODE 6560-50-P